DEPARTMENT OF TRANSPORTATION

Federal Aviation Administration

Editorial Note: Due to a technical error, this document, originally document number 2025-01598, failed to publish in the issue of January 23, 2025, as scheduled. This notice appeared on the Table of Contents for the January 23 issue. This notice, under document number 2025-01967, will now publish in the January 29, 2025, issue of the Federal Register.

Solicitation for Nominations for Appointment to the Commercial Air Tour Aviation Rulemaking Committee (ARC)

AGENCY: Federal Aviation Administration (FAA), Department of Transportation (DOT).

ACTION: Solicitation for nominations for appointment to the Commercial Air Tour ARC.

SUMMARY: The FAA is publishing this notice to solicit nominations for membership on the Commercial Air Tour ARC.

DATES: Nominations must be received no later than 5 p.m. Eastern Time on February 28, 2025.

ADDRESSES: Nominations can be submitted electronically (by email) to 9-AVS-AFS800-ARC-Solicitation@faa.gov. The subject line should state “ARC Nomination.”

FOR FURTHER INFORMATION CONTACT: Mark Giron, Federal Aviation Administration, 800 Independence Avenue SW, Washington, DC 20591, telephone (202) 267-1100; email to 9-AVS-AFS800-ARC-Solicitation@faa.gov. The subject line should state “ARC Question.”

SUPPLEMENTARY INFORMATION:

Background

In response to Section 363 of the FAA Reauthorization Act of 2024 (“the Act”), the FAA Administrator established the Commercial Air Tour ARC on January 14, 2025,¹ to review and develop findings and recommendations to increase the safety of commercial air tours. Furthermore, the Act requires the Administrator to issue a notice of proposed rulemaking establishing increasing safety regulations for commercial air tour operators based on the recommendations of the ARC. Title 49 of the United States Code (49 U.S.C.) section 106(p)(5) authorizes the FAA Administrator to establish an ARC. It is exempt from the requirements of the Federal Advisory Committee Act.

¹ See https://www.faa.gov/regulationspolicies/rulemaking/committees/documents/commercial-air-tour-aviation-rulemaking.

An ARC provides the FAA with information, advice, and recommendations on matters that could result solely in rulemaking. An ARC functions solely in an advisory capacity. This allows the FAA to work with industry and the public to improve the development of the FAA's regulations. Exchanging ideas among members through the ARC process gives the FAA additional opportunities to obtain first-hand information and insight from those parties most affected by existing and proposed regulations.

The FAA does not issue a notice of solicitation for membership on ARCs as a standard practice. However, considering the significant number of operators currently engaged in commercial air tour operations and the lack of an association group or organization representing these types of operations, the FAA deems it necessary to publish a notice soliciting interest for this specific ARC to ensure a balanced and diverse membership to address the tasks.

Description of Duties

The ARC charter includes the scope, specific deadlines, expected deliverables, and membership composition. The ARC will undertake only tasks assigned to it by the FAA and provide direct, first-hand information, advice, and recommendations. ARC participants must:

• Attend meetings on a regular and consistent basis;

• Advise on matters of importance to the aviation industry and participating public;

• Participate in working groups, as necessary;

• Possess the authority, knowledge, and expertise to represent the organization or industry viewpoints; and

• Contribute to the recommendation report, including developing recommendations and drafting the report.

Eligibility for Membership

In accordance with Section 363 of the Act, nominees must meet one of the following criteria to be considered for membership:

1. Representatives of industry, including manufacturers of aircraft and aircraft technologies;

2. Air tour operators or organizations that represent such operators; or

3. Aviation safety experts with specific knowledge of safety management systems and flight data monitoring programs under 14 Code of Federal Regulations part 135.

For commercial air tour operators, the nominee must conduct more than 100 commercial air tours in a calendar year. Congress has established a small business provision that excepts operators conducting 100 or fewer commercial air tours in a calendar year from compliance with any newly issued regulations stemming from Section 363.

The FAA will select members based on their familiarity and experience with commercial air tours. Membership will be balanced in viewpoints, interests, and knowledge of the committee's objectives and scope. Membership will be limited to promote discussion.

Members will be appointed for a 2-year term.

Nomination Process

The FAA Administrator is seeking individual nominations for membership to the Commercial Air Tour ARC. Any interested person may nominate one or more qualified individuals for participation. Self-nominations are also accepted. Nominations must include the following materials to be considered for membership. Failure to submit the required information may disqualify a candidate from the review process.

• A resume or curriculum vitae, which must include relevant job experience, qualifications, as well as contact information (email, telephone, and mailing address).

• A one-page statement describing how the candidate will benefit the ARC, considering how the candidate's unique perspective will advance the conversation. This statement must also identify the stakeholder group that the candidate represents, as discussed under the “Eligibility for Membership” section. Finally, candidates should state their previous experience on a Federal advisory committee and/or aviation rulemaking committee (if any), their level of expertise in the stakeholder group they wish to represent, and the size of the constituency they represent or are able to reach.

• The number and location of air tour operations conducted in a calendar year (applicable to air tour operators only).

Evaluations will be based on the materials submitted. The Administrator will make every effort to appoint members to serve on the ARC from among those candidates determined to have the technical expertise required to meet the Administrator's needs and in a manner to ensure an appropriate balance of membership. The selection of committee members will be consistent with achieving the greatest impact, scope, and credibility among diverse stakeholders. An effort will be made to appoint members who represent a range of organizations directly or indirectly impacted by FAA regulations related to commercial air tours. The Administrator reserves the discretion to appoint members to serve on the ARC who were not nominated in response to this notice, if necessary, to ensure an appropriate balance of membership.

Issued in Washington, DC.
David M. Menzimer,
Manager, General Aviation Operations Section, AFS-830.

[FR Doc. 2025-01967 Filed 1-27-25; 4:15 pm]

BILLING CODE 4910-13-P